SECURITIES AND EXCHANGE COMMISSION

[File No. 500-1]

In the Matter of CodeSmart Holdings, Inc.; Order of Suspension of Trading

November 4, 2015

It appears to the Securities and Exchange Commission (“Commission”) that there is a lack of current and accurate information concerning the securities of CodeSmart Holdings, Inc. (“CodeSmart”) because it has not filed any periodic reports since the period ended June 30, 2014 and that suspicious market activity involving securities of CodeSmart has taken place. CodeSmart is a Florida corporation with its principal place of business in Mohnton, Pennsylvania. Its stock is quoted on OTC Link, operated by OTC Markets Group Inc., under the ticker: ITEN. The Commission is of the opinion that the public interest and the protection of investors require a suspension of trading in the securities of CodeSmart.

Therefore, it is ordered, pursuant to Section 12(k) of the Securities Exchange Act of 1934, that trading in the securities of the above-listed company is suspended for the period from 9:30 a.m. EST on November 4, 2015, through 11:59 p.m. EST on November 17, 2015.

By the Commission.
Jill M. Peterson,
Assistant Secretary.

[FR Doc. 2015-28413 Filed 11-4-15; 11:15 am]

BILLING CODE 8011-01-P